DEPARTMENT OF TRANSPORTATION

Federal Aviation Administration

Agency Information Collection Activities: Requests for Comments; Clearance of Renewed Approval of Information Collection: Exemptions for Air Taxi and Commuter Air Carrier Operations

AGENCY: Federal Aviation Administration (FAA), DOT.

ACTION: Notice and request for comments

SUMMARY: In accordance with the Paperwork Reduction Act of 1995, FAA invites public comments about our intention to request the Office of Management and Budget (OMB) approval to renew an information collection. 14 CFR part 298 requires air carrier operators to obtain a certificate of public convenience and necessity from the DOT, with the exception of air taxi and commuter air operators.

DATES: Written comments should be submitted by January 23, 2012.

FOR FURTHER INFORMATION CONTACT: Kathy DePaepe at (405) 954-9362, or by email at: Kathy.A.DePaepe@faa.gov.

SUPPLEMENTARY INFORMATION: OMB Control Number: 2120-0633.

Title: Exemptions for Air Taxi and Commuter Air Carrier Operations.

Form Numbers: OST Form 4507.

Type of Review: Renewal of an information collection.

Background: Code of Federal Regulation (CFR) 14 part 298, Exemptions for Air Taxi and Commuter Air Carrier Operations, establishes two classifications of air carriers known as air taxi operators and commuter air carriers, the latter being air taxis that offer scheduled passenger service. Generally, they are small businesses, and Part 298 sets a maximum on the size of the aircraft they may operate. The regulation exempts these small operators from certain provisions of the Federal statute to permit them to obtain operating authority by filing a one-page OST Form 4705, Air Taxi Operator and Commuter Air Carrier Registration, and amendments under part 298 of the Regulations of the Department of Transportation (DOT).

Respondents: Approximately 2,040 air taxi operators and commuter air carriers.

Frequency: Information is collected on occasion.

Estimated Average Burden per Response: 30 minutes.

Estimated Total Annual Burden: 1,026 hours.

ADDRESSES: Send comments to the FAA at the following address: Ms. Kathy DePaepe, Room 126B, Federal Aviation Administration, AES-200, 6500 S. MacArthur Blvd., Oklahoma City, OK 73169.

Public Comments Invited: You are asked to comment on any aspect of this information collection, including (a) whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC, on November 14, 2011.
Albert R. Spence,
FAA Assistant Information Collection Clearance Officer, IT Enterprises Business Services Division, AES-200.

[FR Doc. 2011-30083 Filed 11-21-11; 8:45 am]

BILLING CODE 4910-13-P